DEPARTMENT OF THE INTERIOR

Fish and Wildlife Service

[FWS-R1-ES-2008-N0208; 10120-1113-0000-C2]

Endangered and Threatened Wildlife and Plants; Revised Recovery Plan for the 'Alala (Corvus hawaiiensis)

AGENCY: Fish and Wildlife Service, Interior.

ACTION: Notice of document availability: revised recovery plan.

SUMMARY: We, the U.S. Fish and Wildlife Service, announce the availability of the Revised Recovery Plan for the Hawaiian crow or 'Alala (Corvus hawaiiensis). This species, found only on the island of Hawai'i, was Federally listed as endangered in 1967.

ADDRESSES: Copies of the recovery plan are available by request from the U.S. Fish and Wildlife Service, Pacific Islands Fish and Wildlife Office, 300 Ala Moana Boulevard, Room 3-122, Box 50088, Honolulu, HI 96850 (phone: (808) 792-9400). An electronic copy of the recovery plan is also available at http://endangered.fws.gov/recovery/index.html#plans. Printed copies of the recovery plan will be available for distribution 4 to 6 weeks after the publication date of this notice.

FOR FURTHER INFORMATION CONTACT: Jeff Burgett, Fish and Wildlife Biologist, at the above Pacific Islands Fish and Wildlife Office address and phone.

SUPPLEMENTARY INFORMATION:

Background

Recovery of endangered or threatened animals and plants is a primary goal of the Endangered Species Act (Act) (16 U.S.C. 1531 et seq.) and our endangered species program. Recovery means improvement of the status of listed species to the point at which listing is no longer required under the criteria in section 4(a)(1) of the Act.

The Act requires the development of recovery plans for endangered or threatened species unless such a plan would not promote the conservation of the species. Recovery plans help guide the recovery effort by describing actions considered necessary for the conservation of the species, and estimating time and cost for implementing the measures needed for recovery. We originally completed a recovery plan for the 'Alala in 1982, but the recommendations contained in that plan are outdated given the species' current status.

Section 4(f) of the Act requires that we provide public notice and an opportunity for public review and comment during recovery plan development. In fulfillment of this requirement, we made the draft revised recovery plan for the 'Alala (Corvus hawaiiensis) available for public comment from December 18, 2003 through February 20, 2004 (December 18, 2003, 68 FR 70527; December 22, 2003, 68 FR 71128). As we prepared this final revised recovery plan, we considered information provided during the public comment period. We also summarized this information in an appendix to the plan.

The 'Alala or Hawaiian crow has been federally listed as endangered since 1967 (35 FR 16047) and is also listed as endangered by the State of Hawai'i. The 'Alala is endemic to the island of Hawai'i. 'Alala were last observed in the wild in 2002, and we now believe the species to be extirpated from the wild. In January 2008, there were 56 'Alala, representing the entire known population of the species, in captivity at the Keauhou and Maui Bird Conservation Centers, on Hawai'i and Maui islands, respectively.

Historically, the 'Alala was restricted to the dry and mesic forests in the western and southern portions of the island of Hawai'i. The species is associated with 'ohi'a-koa (Metrosideros polymorpha) and 'ohi'a-koa-koa (Acacia koa) forests with an understory of native fruit-bearing trees and shrubs. Current threats include predation by nonnative mammals and the endangered 'Io or Hawaiian hawk (Buteo solitarius), introduced diseases, and habitat loss and fragmentation. Inbreeding depression may be reducing the reproductive success of the captive population, and loss of wild behaviors in captivity might reduce survivorship of captive-raised birds released into the wild. Recovery actions in this revised plan are designed to address threats to the 'Alala to achieve the recovery objectives of downlisting to threatened status and then eventually delisting (removing from the list of endangered and threatened species).

Because the 'Alala exists only as a small population in captivity, the revised recovery plan emphasizes recovery actions for the next 5 years as well as presenting an overall strategy for long-term recovery. Given that recovery will be based on releases of captive-bred 'Alala to the wild, and much of the data necessary to determine the population size and parameters needed for recovery of the species do not exist at this time, it is only possible to establish general recovery criteria. We will consider the 'Alala to be recovered when the genetic diversity that was present in the 'Alala population in 2003 has been preserved to the maximum extent possible, the population as a whole is demographically stable, two or more subpopulations exist in the wild, persistence of wild subpopulations does not require additions from a captive flock, and peer-reviewed population models yield a probability of extinction of less than 5 percent within 100 years. Recovery will also require that threats to the species within suitable habitat have been managed so that 'Alala subpopulations in the wild are growing or stable in landscapes that include areas managed for native biodiversity.

The following recovery actions address key threats to the species as well as the funding and public support necessary to recover the 'Alalā. First, we and our partners must manage the population of 'Alalā, including both captive and future reintroduced birds, to minimize loss of genetic diversity. Second, we must identify and manage suitable habitat to reduce or remove threats, including disease and predators, and we must halt additional habitat loss or degradation and, if possible, reverse them. Third, we must establish new populations in managed suitable habitat. Fourth, we must garner public involvement and support to facilitate captive propagation of 'Alala and other recovery activities, including habitat management and 'Alala reintroduction. Fifth, the recovery program must use focused research and an adaptive management strategy to increase the effectiveness of captive propagation, release methods, and habitat management, and to minimize the time to recovery. Some of these recovery actions are ongoing or were initiated prior to the publication of this revised plan.

Authority: The authority for this action is section 4(f) of the Endangered Species Act, 16 U.S.C. 1533(f).

Dated: February 17, 2009.
David J. Wesley,
Regional Director, Region 1, U.S. Fish and Wildlife Service.

[FR Doc. E9-8898 Filed 4-16-09; 8:45 am]

BILLING CODE